DEPARTMENT OF TRANSPORTATION

Federal Motor Carrier Safety Administration

Use of Advanced Information Technologies To Monitor Compliance With Federal Motor Carrier Safety Regulations

AGENCY: Federal Motor Carrier Safety Administration (FMCSA), USDOT.

ACTION: Notice of Policy Change.

SUMMARY: This notice is to inform the motor carrier community of policy changes regarding the FMCSA's use of advanced information technology.

DATES: Effective Date: This change in policy is effective December 19, 2008.

FOR FURTHER INFORMATION CONTACT: Mr. Lee Zimmerman, Chief, Enforcement and Compliance Division, MC-ECE, Federal Motor Carrier Safety Administration, 1200 New Jersey Ave, SE., Washington, DC 20590. Telephone: 202-366-6830. Office hours are from 7:45 a.m. to 4:15 p.m., e.t., Monday through Friday, except Federal holidays. Web site address: http://www.fmcsa.dot.gov.

Background

Current Policy

In 1997, the FMCSA issued a policy memorandum which limited the use of advanced technology during Agency investigations regarding motor carrier compliance with the Federal Motor Carrier Safety Regulations. The Agency recognized the technologies, which were emerging and being implemented within the industry in 1997, offered positive opportunity to advance operational safety performance. Therefore, the Agency decided to initiate the 1997 policy limiting the use of technology data and electronically produced records during reviews and for regulatory enforcement purposes, in order to promote and encourage the use of these new technologies by the industry. This policy afforded the industry the opportunity to fully integrate the technology in its operations and overall safety management system.

After more than a decade since the Agency established its policy, the use of advanced technology has become widely accepted and an integral component of the industry's logistics and operations management systems. The Agency's policy achieved its purpose; the once emerging technologies are today a common and essential component of the industry's logistics, operations and safety management systems to achieve the safe and efficient transportation of passengers and freight. Therefore, with this notice, the FMCSA rescinds the 1997 policy on Advanced Information Technology.

Issued on: November 13, 2008.
Dan Hartman,
Associate Administrator, Field Operations.

[FR Doc. E8-27441 Filed 11-18-08; 8:45 am]

BILLING CODE 4910-EX-P